ENVIRONMENTAL PROTECTION AGENCY

[FRL OP-OFA-181]

Environmental Impact Statements; Notice of Availability

Responsible Agency: Office of Federal Activities, General Information 202-564-5632 or https://www.epa.gov/nepa.

Weekly receipt of Environmental Impact Statements (EIS)

Filed May 23, 2025 10 a.m. EST Through June 2, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250071, Final, APHIS, OR, ADOPTION—Final Environmental Impact Statement for the Barred Owl Management Strategy, Contact: Erica Wells 253-254-4781.

The Animal and Plant Health Inspection Service (APHIS) has adopted the Fish and Wildlife Service's Final EIS No. 20240119 filed 06/28/2024 with the Environmental Protection Agency. The APHIS was a cooperating agency on this project. Therefore, republication of the document is not necessary.

EIS No. 20250072, Final, NMFS, OR, ADOPTION—Elliott State Research Forest Habitat Conservation Plan, Contact: Jeff Young 541-315-1571.

The National Marine Fisheries Service (NMFS) has adopted the Fish and Wildlife Service's Final EIS No. 20250006 filed 01/02/2025 with the Environmental Protection Agency. The NMFS was a cooperating agency on this project. Therefore, republication of the document is not necessary.

EIS No. 20250073, Final, FHWA, PA, U.S. 6219, Section 050 Transportation Improvement Project, Contact: Benjamin Harvey 717-221-3701.

Under 23 U.S.C. 139(n)(2), FHWA has issued a single document that consists of a final environmental impact statement and record of decision. Therefore, the 30-day wait/review period under NEPA does not apply to this action.

EIS No. 20250074, Revised Draft, USMC, TT, Commonwealth of the Northern Mariana Islands Joint Military Training, Comment Period Ends: 08/20/2025, Contact: Lisa Graham 703-939-7701.

EIS No. 20250075, Draft, FERC, MA, Hydropower Licenses for the Northfield Mountain Pumped Storage Project et al., Comment Period Ends: 07/29/2025, Contact: Office of External Affairs 866-208-3372.

EIS No. 20250076, Draft, FERC, VT, Hydropower Licenses for the Wilder, Bellow Falls, and Vernon Hydroelectric Projects, Comment Period Ends: 07/29/2025, Contact: Office of External Affairs 866-208-3372.

EIS No. 20250077, Draft, BLM, AL, Warrior Met Coal, Inc. Federal Coal Lease by Application, Comment Period Ends: 07/21/2025, Contact: Shayne Banks 601-919-4652.

EIS No. 20250078, Draft, APHIS, NAT, The State University of New York College of Environmental Science and Forestry Petition (19-309-01p) for Determination of Nonregulated Status for Blight-Tolerant Darling 54 American Chestnut (Castanea dentata), Comment Period Ends: 07/21/2025, Contact: Alan Pearson 301-851-3944.

Dated: June 2, 2025.
Nancy Abrams,
Associate Director, Office of Federal Activities.

[FR Doc. 2025-10321 Filed 6-5-25; 8:45 am]

BILLING CODE 6560-50-P